NUCLEAR REGULATORY COMMISSION

[NRC-2025-0080]

Draft Regulatory Guide: Qualification of Safety-Related Cables and Field Splices for Production and Utilization Facilities

AGENCY: Nuclear Regulatory Commission.

ACTION: Draft guide; request for comment.

SUMMARY: The U.S. Nuclear Regulatory Commission (NRC) is issuing for public comment a draft Regulatory Guide (DG), DG-1442, “Qualification of Safety-Related Cables and Field Splices for Production and Utilization Facilities.” This DG is proposed Revision 1 of Regulatory Guide (RG) 1.211 of the same name. The proposed revision describes an approach that is acceptable to the staff of the NRC to meet regulatory requirements for the environmental qualification of safety related cables and field splices in production and utilization facilities. It endorses, subject to the conditions described in Section C of the DG, Institute of Electrical and Electronic Engineers (IEEE) Standard (Std.) 383-2023, “IEEE Standard for Qualifying Electric Cables and Splices for Nuclear Facilities.”

DATES: Submit comments by September 8, 2025. Comments received after this date will be considered if it is practical to do so, but the NRC is able to ensure consideration only for comments received on or before this date.

ADDRESSES: You may submit comments by any of the following methods; however, the NRC encourages electronic comment submission through the Federal rulemaking website.

• Federal rulemaking website: Go to https://www.regulations.gov and search for Docket ID NRC-2025-0080. Address questions about Docket IDs in Regulations.gov to Bridget Curran; telephone: 301-415-1003; email: Bridget.Curran@nrc.gov. For technical questions, contact the individual(s) listed in the For Further Information Contact section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Edmund Kleeh, Office of Nuclear Reactor Regulation, telephone: 301-415-2964; email: Edmund.Kleeh@nrc.gov and Vance Petrella, Office of Nuclear Regulatory Research, telephone: 301-415-1048; email: Vance.Petrella@nrc.gov. Both are staff of the U.S. Nuclear Regulatory Commission, Washington, DC 20555-0001.

SUPPLEMENTARY INFORMATION:

I. Obtaining Information and Submitting Comments

A. Obtaining Information

Please refer to Docket ID NRC-2025-0080 when contacting the NRC about the availability of information for this action. You may obtain publicly available information related to this action by any of the following methods:

• Federal Rulemaking Website: Go to https://www.regulations.gov and search for Docket ID NRC-2025-0080.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The DG “Qualification of Safety-Related Cables and Field Splices for Production and Utilization Facilities” is available in ADAMS under Accession No. ML24358A029.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2025-0080 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Additional Information

The NRC is issuing for public comment a DG in the NRC's “Regulatory Guide” series. This series was developed to describe methods that are acceptable to the NRC staff for implementing specific parts of the agency's regulations, to explain techniques that the staff uses in evaluating specific issues or postulated events, and to describe information that the staff needs in its review of applications for permits and licenses.

The DG, entitled “Qualification of Safety-Related Cables and Field Splices for Production and Utilization Facilities,” is temporarily identified by its task number, DG-1442.

The DG is proposed Revision 1 of RG 1.211 of the same name. The proposed revision endorses, subject to the conditions described in Section C of this DG, IEEE Std. 383-2023 and applies to production and utilization facilities licensed under parts 50 and 52 of title 10 of the Code of Federal Regulations (10 CFR) within the scope of this RG. The previous version of this DG endorsed, with certain clarifications, IEEE Std. 383-2003. In 2023, the IEEE revised IEEE Std. 383 to provide greater guidance for cable and splice qualification and to clarify the existing principles of qualification provided by International Electrotechnical Commission (IEC)/IEEE Std. 60780-323-2016, “Nuclear facilities—Electrical equipment important to safety—Qualification,” Edition 1.

The staff is also issuing for public comment a draft regulatory analysis (ADAMS Accession No. ML24358A030). The staff developed a regulatory analysis to assess the value of issuing or revising a RG as well as alternative courses of action.

III. Backfitting, Forward Fitting, and Issue Finality

Licensees generally are not required to comply with the guidance in this proposed RG. If the NRC proposes to use this RG in an action that would constitute backfitting, as that term is defined in 10 CFR 50.109, “Backfitting,” and as described in NRC Management Directive (MD) 8.4, “Management of Backfitting, Forward Fitting, Issue Finality, and Information Requests”; affect the issue finality of an approval issued under 10 CFR part 52, “Licenses, Certifications, and Approvals for Nuclear Power Plants”; or constitute forward fitting, as that term is defined in MD 8.4, then the NRC staff will apply the applicable policy in MD 8.4 to justify the action. If a licensee believes that the NRC is using this DG in a manner inconsistent with the discussion in this Implementation section, then the licensee may inform the NRC staff in accordance with MD 8.4.

IV. Submitting Suggestions for Improvement of Regulatory Guides

A member of the public may, at any time, submit suggestions to the NRC for improvement of existing RGs or for the development of new RGs. Suggestions can be submitted on the NRC's public website at https://www.nrc.gov/reading-rm/doc-collections/reg-guides/contactus.html. Suggestions will be considered in future updates and enhancements to the “Regulatory Guide” series.

V. Executive Order (E.O.) 12866

The Office of Information and Regulatory Affairs determined that this draft DG is not a significant regulatory action under E.O. 12866.

Dated: August 4, 2025.
For the Nuclear Regulatory Commission.
Meraj Rahimi,
Chief, Regulatory Guide and Programs Management Branch, Division of Engineering, Office of Nuclear Regulatory Research.

[FR Doc. 2025-14951 Filed 8-6-25; 8:45 am]

BILLING CODE 7590-01-P